FEDERAL EMERGENCY MANAGEMENT AGENCY

44 CFR Part 67

[Docket No. FEMA-D-7548]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street SW., Washington, DC 20472, (202) 646-3461, or (email) mike.grimm@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) • Elevation in feet (NAVD): Existing | #Depth in feet above ground. *Elevation in feet (NGVD) • Elevation in feet (NAVD): Modified
Massachusetts | Chelmsford (Town), Middlesex County | River Meadow Brook | Downstream corporate limit | *103 | *105
|  |  | Approximately 20 feet upstream of Mill Road | *115 | *117
|  | Putnam Brook | At confluence with River Meadow Brook | *111 | *112
|  |  | Approximately 560 feet above confluence with River Meadow Brook | *111 | *112
Maps available for inspection at the Chelmsford Town Office, 50 Billerica Road, Chelmsford, Massachusetts.
Send comments to Mr. William Dalton, Chairman of the Town of Chelmsford Board of Selectmen, 50 Billerica Road, Chelmsford, Massachusetts 01824-2777.
Mississippi | Monticello (Town), Lawrence County | Runnels Creek | At confluence with Pearl River | None | *192
|  |  | Just downstream of Thomas E. Jolly Drive | None | *205
|  | Runnels Creek Tributary A. | At confluence with Runnels Creek | None | *201
|  |  | Approximately 1,125 feet upstream of Graham Road | None | *204
|  | Runnels Creek Tributary B. | At confluence with Tributary A | None | *202
|  |  | Just downstream of State Route 27 | None | *214
|  | Runnels Creek Tributary C. | At confluence with Tributary B | None | *206
|  |  | Just downstream of Thomas E. Jolly Drive | None | *212
Maps available for inspection at the Monticello Town Hall, 202 Jefferson Street, Monticello, Mississippi.
Send comments to The Honorable Dave Nichols, III, Mayor of the Town of Monticello, P.O. Box 822, Monticello, Mississippi 39654.
Pennsylvania | College (Township), Centre County. | Cedar Run | Approximately 60 feet downstream of the confluence with Spring Creek | None | *1,036
|  |  | At upstream corporate limits | None | *1,078
Maps available for inspection at the College Township Municipal Building, 1481 East College Avenue, State College, Pennsylvania.
Send comments to Mr. Adam Brumbaugh, College Township Manager, 1481 East College Avenue, State College, Pennsylvania 16801.
Pennsylvania | Harris (Township), Centre County | Cedar Run | Approximately 2,680 feet downstream of the railroad | None | *1,078
|  |  | Approximately 125 feet upstream of Rock Hill Road | None | *1,114
|  | Mackey's Run | At the confluence with Cedar Run | None | *1,105
|  |  | Approximately 217 feet upstream of Rock Hill Road | None | *1,108
|  | Spring Creek | At the corporate limits, coincident with Mary Elizabeth Street | *1,054 | *1,056
Maps available for inspection at the Harris Township Municipal Office, 224 East Main Street, Boalsburg, Pennsylvania.
Send comments to Mr. Joseph Chesworth, Chairperson of the Township of Harris, P.O. Box 20, Boalsburg, Pennsylvania 16827.

(Catalog of Federal Domestic Assistance No. 83.100, “Flood Insurance.”)
Dated: December 31, 2002.
Anthony S. Lowe,
Administrator, Federal Insurance and Mitigation Administration.

[FR Doc. 03-609 Filed 1-10-03; 8:45 am]

BILLING CODE 6718-04-U